ENVIRONMENTAL PROTECTION AGENCY

40 CFR Part 52

[CA 243-0357b; FRL-7232-7]

Revisions to the California State Implementation Plan; Bay Area Air Quality Management District; South Coast Air Quality Management District

AGENCY: Environmental Protection Agency (EPA).

ACTION: Proposed rule.

SUMMARY: EPA is proposing to approve revisions to the portions of the California State Implementation Plan (SIP) that are associated with the Bay Area Air Quality Management District (BAAQMD) and South Coast Air Quality Management District (SCAQMD). These revisions concern volatile organic compound emissions from solid waste disposal sites. We are proposing to approve local rules to regulate these emission sources under the Clean Air Act as amended in 1990 (CAA or the Act).

DATES: Any comments on this proposal must arrive by July 31, 2002.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814.

Bay Area Air Quality Management District, 939 Ellis Street, San Francisco, CA 94109-7799.

South Coast Air Quality Management District, 21865 E. Copley Drive, Diamond Bar, CA 91765-4182.

FOR FURTHER INFORMATION CONTACT: Mae Wang, Rulemaking Office (AIR-4), U.S. Environmental Protection Agency, Region IX, (415) 947-4124.

SUPPLEMENTARY INFORMATION: This proposal addresses the following local rules: BAAQMD Rule 8-34 and SCAQMD Rule 1150.1. In the Rules and Regulations section of this Federal Register, we are approving these local rules in a direct final action without prior proposal because we believe these SIP revisions are not controversial. If we receive adverse comments, however, we will publish a timely withdrawal of the direct final rule and address the comments in subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: June 6, 2002.
Laura Yoshii,
Acting Regional Administrator, Region 9.

[FR Doc. 02-16362 Filed 6-28-02; 8:45 am]

BILLING CODE 6560-50-P